DEPARTMENT OF TRANSPORTATION

Federal Aviation Administration

Notion of Intent To Rule on Application To Use the Revenue From a Passenger Facility Charge (PFC) at Craig Airport, Jacksonville, Florida

AGENCY: Federal Aviation Administration (FAA), DOT.

ACTION: Notice of intent to rule on application.

SUMMARY: The FAA proposes to rule and invites public comment on the application to use the revenue from a PFC at Craig Airport under the provisions of the Aviation Safety and Capacity Expansion Act of 1990 (Title IX of the Omnibus Budget Reconciliation Act of 1990) (Pub. L. 101-508) and Part 158 of the Federal Aviation Regulations (14 CFR Part 158).

DATES: Comments must be received on or before December 29, 2000.

ADDRESSES: Comments on this application may be mailed or delivered in triplicate to the FAA at the following address: Orlando Airports District Office, 5950 Hazeltine National Drive, Suite 400, Orlando, Florida, 32822-5024.

In addition, one copy of any comments submitted to the FAA must be mailed or delivered to John D. Clark, III, Vice President of Aviation, of the Jacksonville Port Authority at the following address: Jacksonville Port Authority, Post Office Box 3005, Jacksonville, Florida, 32206-0005.

Air carriers and foreign air carriers may submit copies of written comments previously provided to the Jacksonville Port Authority under section 158.23 of Part 158.

FOR FURTHER INFORMATION CONTACT: Richard M. Owen, Program Manager, Orlando Airports District Office, 5950 Hazeltine National Drive, Suite 400, Orlando, Florida, 32822-5024, (407) 812-6331, extension 19. The application may be reviewed in person at this same location.

SUPPLEMENTARY INFORMATION: The FAA proposes to rule and invites public comment on the application to use the revenue from a PFC at Craig Airport under the provisions of the Aviation Safety and Capacity Expansion Act of 1990 (Title IX of the Omnibus Budget Reconciliation Act of 1990) (Pub. L. 101-508) and Part 158 of the Federal Aviation Regulations (14 CFR Part 158).

On October 19, 2000, the FAA determined that the application to use the revenue from a PFC submitted by Jacksonville Port Authority was substantially complete within the requirements of § 158.25 of Part 158. The FAA will approve or disapprove the application, in whole or in part, no later than February 3, 2001.

The following is a brief overview of the application.

PFC Application No.: 01-06-U-00-JAX.

Level of the proposed PFC: $3.00.

Proposed charge effective date: August 1, 1996.

Proposed charge expiration date: June 1, 1999.

Total estimated net PFC revenue: $5,584,454.

Brief description of proposed project(s): Taxiway improvements for Runways 5-23 and 14-32, including additional connector taxiways and run-up pads.

Class or classes of air carriers which the public agency has requested not be required to collect PFCs: Air taxi/commercial operators filing or required to file FAA Form 1800-31.

Any person may inspect the application in person at the FAA office listed above under FOR FURTHER INFORMATION CONTACT.

In addition, any person may, upon request, inspect the application, notice and other documents germane to the application in person at the Jacksonville Port Authority.

Issued in Orlando, Florida on November 22, 2000.
W. Dean Stringer,
Manager, Orlando Airports District Office, Southern Region.

[FR Doc. 00-30427 Filed 11-28-00; 8:45 am]

BILLING CODE 4910-13-M